ENVIRONMENTAL PROTECTION AGENCY

[EPA-HQ-OW-2011-0439; FRL-9994-16-OMS]

Information Collection Request Submitted to OMB for Review and Approval; Comment Request; Disinfectants/Disinfection Byproducts, Chemical, and Radionuclides Rules (Renewal)

AGENCY: Environmental Protection Agency (EPA).

ACTION: Notice.

SUMMARY: The U.S. Environmental Protection Agency (EPA) has submitted an information collection request (ICR) for Disinfectants/Disinfection Byproducts, Chemical, and Radionuclides Rules (EPA ICR No. 1896.11, OMB Control No. 2040-0204) to the Office of Management and Budget (OMB) for review and approval in accordance with the Paperwork Reduction Act. This is a proposed extension of the ICR, which is currently approved through August 31, 2019. Public comments were previously requested via the Federal Register on September 11, 2018, during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 30, 2019.

ADDRESSES: Submit your comments, referencing Docket ID Number EPA-HQ-OW-2011-0442, to (1) EPA online using www.regulations.gov (our preferred method), by email to OW-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Kevin Roland, Drinking Water Protection Division, Office of Ground Water and Drinking Water, (4606M), Environmental Protection Agency, 1200 Pennsylvania Ave. NW, Washington, DC 20460; telephone number: 202-564-4588: fax number: 202-564-3755; email address: roland.kevin@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Abstract: The Disinfectants/Disinfection Byproducts, Chemical, and Radionuclides Rules ICR examines public water system and primacy agency burden and costs for recordkeeping and reporting requirements in support of the disinfectants/disinfection byproducts, chemical, and radionuclides regulations promulgated under the Safe Drinking Water Act. These recordkeeping and reporting requirements are mandatory for compliance with 40 CFR parts 141 and 142. The following regulations are included: The Stage 1 Disinfectants and Disinfection Byproducts Rule (Stage 1 DBPR), the Stage 2 Disinfectants and Disinfection Byproducts Rule (Stage 2 DBPR), the Chemical Phase Rules (Phases II/IIB/V), the Radionuclides Rule, the Disinfectant Residual Monitoring and Associated Activities under the Surface Water Treatment Rule (SWTR), the Arsenic Rule, and the Lead and Copper Rule (LCR), including the Lead and Copper Rule Short Term Revisions.

Form Numbers: None.

Respondents/affected entities: Entities potentially affected by this action are public water systems and primacy agencies.

Respondent's obligation to respond: Mandatory for compliance with 40 CFR parts 141 and 142.

Estimated number of respondents: 146,772 (total).

Frequency of response: Varies by requirement (i.e., on occasion, monthly, quarterly, semi-annually, and annually).

Total estimated burden: 5,161,356 hours (per year). Burden is defined at 5 CFR 1320.03(b).

Total estimated cost: $455,885,000 (per year), which includes $252,952,000 annualized capital or operation and maintenance costs.

Changes in the Estimates: There is a decrease of 144,340 hours in the total estimated respondent burden compared with the ICR currently approved by the OMB. This is due to a reduction in public water system inventory.

Courtney Kerwin,
Director, Regulatory Support Division.

[FR Doc. 2019-18732 Filed 8-29-19; 8:45 am]

BILLING CODE 6560-50-P